DEPARTMENT OF TRANSPORTATION

Federal Aviation Administration

Office of Commercial Space Transportation; Notice of Availability, Notice of Public Comment Period, and Request for Comment on the Draft Environmental Assessment for Issuing a License to LauncherOne, LLC for LauncherOne Launches at the Mojave Air and Space Port, Kern County, California

AGENCY: Federal Aviation Administration (FAA), Department of Transportation (DOT), lead Federal agency. National Aeronautics and Space Administration, cooperating agency.

ACTIONS: Notice of availability, notice of public comment period, and request for comment.

SUMMARY: In accordance with the National Environmental Policy Act of 1969, as amended (NEPA; 42 United States Code 4321 et seq.), Council on Environmental Quality NEPA implementing regulations (40 Code of Federal Regulations parts 1500 to 1508), and FAA Order 1050.1F, Environmental Impacts: Policies and Procedures, the FAA is announcing the availability of and requesting comment on the Draft Environmental Assessment for Issuing a License to LauncherOne, LLC for LauncherOne Launches at the Mojave Air and Spaceport, Kern County, California (Draft Environmental Assessment [EA]).

DATES: The public comment period for the Draft EA begins with the issuance of this Notice of Availability and lasts 30 days. The FAA encourages all interested parties to provide comments concerning the scope and content of the Draft EA by February 13, 2017, or 30 days from the date of publication of this Notice of Availability, whichever is later.

Before including your address, phone number, email address, or other personal identifying information in your comment, be advised that your entire comment—including your personal identifying information—may be made publicly available at any time. While you can ask the FAA in your comment to withhold from public review your personal identifying information, the FAA cannot guarantee that we will be able to do so.

ADDRESSES: Please submit comments or questions regarding the Draft EA to Daniel Czelusniak, Environmental Specialist, Federal Aviation Administration, 800 Independence Ave. SW., Suite 325, Washington, DC 20591; email LauncherOneEA@icfi.com.

FOR FURTHER INFORMATION CONTACT: Daniel Czelusniak, Environmental Specialist, Federal Aviation Administration, 800 Independence Avenue SW., Suite 325, Washington, DC 20591; email LauncherOneEA@icfi.com; or phone (202) 267-5924.

SUPPLEMENTARY INFORMATION: The FAA is evaluating LauncherOne LLC's (L1's) proposal to launch the LauncherOne at the Mojave Air and Space Port in Kern County, California, for purposes of transporting small satellites into a variety of Low Earth Orbits. The launch system consists of the rocket (LauncherOne) and a carrier aircraft (Boeing 747). To operate LauncherOne at the Mojave Air and Space Port, L1 must obtain a launch license from the FAA. Issuing a license is considered a major Federal action subject to environmental review under NEPA. Under the Proposed Action, the FAA would issue a launch license to L1 that would allow L1 to operate LauncherOne from the Mojave Air and Space Port. L1 is proposing a maximum of 115 launches over the course of the 5-year launch license (expected 2017-2021). The maximum number of annual launches during this time period would be 40.

Alternatives under consideration include the Proposed Action and the No Action Alternative. Under the No Action Alternative, the FAA would not issue a launch license for the operation of LauncherOne from the Mojave Air and Space Port. Also, the FAA would not modify Mojave Air and Space Port's launch site operator license to include “orbital” reusable launch vehicle missions. The Mojave Air and Space Port would continue its existing operations.

The Draft EA evaluates the potential environmental impacts from the Proposed Action and No Action Alternative on air quality; biological resources (including fish, wildlife, and plants); climate; Department of Transportation Act, Section 4(f); hazardous materials, solid waste, and pollution prevention; historical, architectural, archaeological, and cultural resources; land use; noise and noise-compatible land use; socioeconomics, environmental justice, and children's environmental health and safety risks; visual effects; and water resources (including wetlands, floodplains, surface waters, groundwater, and wild and scenic rivers). Potential cumulative impacts are also addressed in the Draft EA.

The FAA has posted the Draft EA on the FAA Office of Commercial Space Transportation Web site: http://www.faa.gov/about/office_org/headquarters_offices/ast/environmental/nepa_docs/review/launch/.

Issued in Washington, DC, on January 5, 2017.
Daniel Murray,
Manager, Space Transportation Development Division.

[FR Doc. 2017-00549 Filed 1-11-17; 8:45 am]

BILLING CODE 4910-13-P